POSTAL SERVICE

International Product Change—Priority Mail International Regional Rate Boxes—Non-Published Rates

AGENCY: Postal Service™.

ACTION: Notice.

SUMMARY: The Postal Service hereby gives notice that it has filed a request with the Postal Regulatory Commission to add Priority Mail International® Regional Rate Boxes—Non-Published Rates to the Competitive Products List.

DATES: As of: July 2, 2013.

FOR FURTHER INFORMATION CONTACT: Patricia Fortin, (202) 268-8785.

SUPPLEMENTARY INFORMATION: The United States Postal Service® hereby gives notice that, pursuant to 39 U.S.C. 3642 and 39 CFR 3020.30, on June 25, 2013, it filed with the Postal Regulatory Commission: (1) A request to add Priority Mail International Regional Rate Boxes—Non-Published Rates to the Competitive Product List and, (2) a Notice of Filing Priority Mail International Regional Rate Boxes—Non-Published Rates Model Contract and Application for Non-Public Treatment of Materials Filed Under Seal. The documents are available at http://www.prc.gov, Docket Nos. MC2013-53 and CP2013-69.

Stanley F. Mires,
Attorney, Legal Policy & Legislative Advice.

[FR Doc. 2013-15767 Filed 7-1-13; 8:45 am]

BILLING CODE 7710-12-P